DEPARTMENT OF COMMERCE

National Oceanic and Atmospheric Administration

Final Management Plan for the Great Bay National Estuarine Research Reserve

AGENCY: Office for Coastal Management (OCM), National Ocean Service (NOS), National Oceanic and Atmospheric Administration (NOAA), Department of Commerce (DOC).

ACTION: Notice; approval of management plan.

SUMMARY: Notice is hereby given that the Office for Coastal Management, National Ocean Service, National Oceanic and Atmospheric Administration approves the revised management plan for the Great Bay National Estuarine Research Reserve (Great Bay Reserve) in New Hampshire. In accordance with applicable federal regulations, the New Hampshire Fish and Game Department revised the Great Bay Reserve's management plan, which replaces the plan that was approved in 2007.

ADDRESSES: The approved management plan can be downloaded or viewed at https://www.greatbay.org/wp-content/uploads/2020/06/ManagementPlan.pdf. A hard copy of the documents may be requested by sending a written request to the point of contact identified below (see FOR FURTHER INFORMATION CONTACT).

FOR FURTHER INFORMATION CONTACT: Elizabeth Mountz of NOAA's Office for Coastal Management, by email at Elizabeth.Mountz@noaa.gov, phone at (240) 533-0819, or mail at: 1305 East-West Highway, Silver Spring, MD 20910.

SUPPLEMENTARY INFORMATION:

Pursuant to 15 CFR 921.33(c), a state must revise the management plan for a national estuarine research reserve at least every five years. Changes to a national estuarine research reserve's management plan may be made only after receiving written approval from NOAA. NOAA approves changes to management plans via notice in the Federal Register. On March 24, 2020, NOAA issued a notice in the Federal Register announcing a thirty-day public comment period for the proposed revision of the management plan for the Great Bay Reserve (85 FR 16618). Responses to written and oral comments NOAA received, and an explanation of how comments were incorporated into the final version of the revised management plan, are available in appendix 3 of the plan.

The management plan outlines the Great Bay Reserve's strategic goals and objectives; administrative structure; programs for conducting research and monitoring, education, and training; resource protection and restoration plans; public access and visitor use plans; consideration for future land acquisition; and facility development to support Great Bay Reserve operations. Since 2007, the Great Bay Reserve has implemented its core and system-wide programs; secured science, education, and conservation grants to serve Great Bay communities; made significant repairs and improvements to the Discovery Center campus including installing a pervious pavement parking lot, replacing the original boardwalk, and refurbishing staff offices in the Depot House and Discovery Center; updated exhibits in Discovery Center including designing and installing marine debris exhibits; and enhanced waterfront access for kayak launching. There will be no boundary change with the approval of the revised management plan. The revised management plan will serve as the guiding document for the 10,235-acre Great Bay Reserve for the next five years.

NOAA reviewed the environmental impacts of the revised management plan and determined that this action is categorically excluded from further analysis under the National Environmental Policy Act of 1969, 42 U.S.C. 4321 et seq., consistent with NOAA Administrative Order 216-6A.

(Authority: 16 U.S.C. 1451 et seq.)

Keelin Kuipers,
Deputy Director, Office for Coastal Management, National Ocean Service, National Oceanic and Atmospheric Administration.

[FR Doc. 2020-22461 Filed 10-8-20; 8:45 am]

BILLING CODE 3510-JE-P